ENVIRONMENTAL PROTECTION AGENCY

[ER-FRL-9044-2]

Environmental Impact Statements; Notice of Availability

Responsible Agency: Office of Federal Activities, General Information 202-564-5632 or https://www.epa.gov/nepa/.

Weekly receipt of Environmental Impact Statements

Filed 03/25/2019 Through 03/29/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190042, Draft, USFS, WY, Invasive Plant Management Draft Environmental Impact Statement for the Bridger-Teton National Forest, Comment Period Ends: 05/20/2019, Contact: Chad Hayward 307-276-5817.

EIS No. 20190043, Draft, FHWA, AZ, Draft Tier 1 Environmental Impact Statement and Preliminary Section 4(f) Evaluation for Interstate 11 Corridor between Nogales and Wickenburg, Arizona, Comment Period Ends: 05/31/2019, Contact: Rebecca Yedlin 602-382-8979.

EIS No. 20190045, Draft, USFWS, MT, National Bison Range Draft Comprehensive Conservation Plan, Environmental Impact Statement, and Compatibility Determinations, Comment Period Ends: 05/20/2019, Contact: Vanessa Fields 406-644-2211.

EIS No. 20190046, Draft Supplement, FHWA, AL, Project No. DPI-0030(005) I-10 Mobile River Bridge and Bayway, Mobile and Baldwin Counties, Alabama, Comment Period Ends: 05/20/2019, Contact: Mr. Mark D. Bartlett, P.E. 334-274-6350.

EIS No. 20190047, Draft Supplement, NRC, FL, Generic Environmental Impact Statement for License Renewal of Nuclear Plants, Supplement 5, Second Renewal, Regarding Subsequent License Renewal for Turkey Point Nuclear Generating Unit Nos. 3 and 4, Comment Period Ends: 05/20/2019, Contact: David Drucker 301-415-6223.

EIS No. 20190048, Draft, HUD, NY, East Side Coastal Resiliency (ESCR), Comment Period Ends: 08/15/2019, Contact: Eram Qadri 212-788-6282.

EIS No. 20190049, Draft Supplement, USFS, AZ, Tonto National Forest Motorized Travel Management, Comment Period Ends: 05/21/2019, Contact: Gregory Schuster 602-225-5200.

EIS No. 20190051, Draft, FERC, OR, The Jordan Cove Energy Project, Comment Period Ends: 05/20/2019, Contact: Office of External Affairs 866-208-3372.

Amended Notice

EIS No. 20180284, Draft Supplement, USFS, MT, Stonewall Vegetation Project, Comment Period Ends: 04/12/2019, Contact: Allen Byrd 406-495-3903. Revision to FR Notice Published 03/01/2019; Extending the Comment Period from 03/25/2019 to 04/12/2019.

EIS No. 20180335, Draft Supplement, USN, GU, Mariana Islands Training and Testing Draft Supplemental Environmental Impact Statement/Overseas Environmental Impact Statement, Comment Period Ends: 04/17/2019, Contact: Nora Macariola-See 808-472-1402, Revision to FR Notice Published 02/01/2019; Extending the Comment Period from 03/18/2019 to 04/17/2019.

Dated: April 2, 2019.
Robert Tomiak,
Director, Office of Federal Activities.

[FR Doc. 2019-06688 Filed 4-4-19; 8:45 am]

BILLING CODE 6560-50-P